DEPARTMENT OF COMMERCE

Foreign-Trade Zones Board

[B-46-2012]

Foreign-Trade Zone 70—Detroit, MI Application for Reorganization Under Alternative Site Framework

An application has been submitted to the Foreign-Trade Zones (FTZ) Board (the Board) by the Greater Detroit Foreign-Trade Zone, Inc., grantee of FTZ 70, requesting authority to reorganize the zone under the alternative site framework (ASF) adopted by the Board (15 CFR Sec. 400.2(c)). The ASF is an option for grantees for the establishment or reorganization of general-purpose zones and can permit significantly greater flexibility in the designation of new subzones or “usage-driven” FTZ sites for operators/users located within a grantee's “service area” in the context of the Board's standard 2,000-acre activation limit for a general-purpose zone project. The application was submitted pursuant to the Foreign-Trade Zones Act, as amended (19 U.S.C. 81a-81u), and the regulations of the Board (15 CFR part 400). It was formally filed on June 20, 2012.

FTZ 70 was approved by the Board on July 21, 1981 (Board Order 176, 46 FR 38941, 7/30/1981) and expanded on April 15, 1985 (Board Order 299, 50 FR 16119, 4/24/1985), November 27, 1989 (Board Order 453, 54 FR 50258, 12/5/1989), April 20, 1990 (Board Order 471, 55 FR 17775, 4/27/1990), February 20, 1996 (Board Order 802, 61 FR 7237, 2/27/1996), August 26, 1996 (Board Order 843, 61 FR 46763, 9/5/1996), April 5, 2001 (Board Order 1162, 66 FR 19423, 4/16/2001), May 23, 2005 (Board Order 1395, 70 FR 32570-32571, 6/3/2005), June 22, 2007 (Board Order 1515, 72 FR 35968, 7/2/2007) and October 29, 2010 (Board Order 1719, 75 FR 68604, 11/11/2010).

The current zone project includes the following sites: Site 2 (31 acres)—Nicholson Terminal and Dock Company, along the Detroit River on Great Lakes Avenue, Ecorse, Wayne County; Site 3 (56 acres)—Metro Airport Center Industrial Park, west of Wayne Road between Grant Road and the Norfolk Southern Railroad Line, adjacent to the Detroit Metropolitan Airport, also includes a building at 6850 Middlebelt Road, Romulus, Wayne County; Site 4 (4.82 acres)—Westside Industrial Park, 2030 Howard Street, Detroit, Wayne County; Site 5 (22 acres)—6490 Lynch Road, Detroit, 6307 West Fort Street, Detroit and 214 East Maple Road, Detroit; Site 6 (2.5 acres)—308 Antoine Street, Wyandotte, Wayne County; Site 8 (7.48 acres)—17423 West Jefferson Avenue, Riverview, Wayne County; Site 9 (1.07 acres)—28000 Goddard Road, Romulus, Wayne County; Site 10 (4.7 acres)—18765 Seaway Drive, Melvindale, Wayne County; Site 11 (21.47 acres)—1725 Cicotte Avenue, Lincoln Park, 4825 Cabot Street, Detroit and 9450 Buffalo Street, Hamtramck, Wayne County (expires 11/30/2012); Site 12 (87 acres)—Detroit Metropolitan Wayne County Airport, Detroit, Wayne County; Site 13 (1.08 acres)—13542 Helen Street, Detroit, Wayne County; Site 14 (35.52 acres)—3333 West Fort Street, 2301 West Lafayette Street and 3801 W. Jefferson Avenue, Detroit, Wayne County; Site 15 (15 acres)—151 Lafayette Street and 12240 Oakland Park Boulevard (Site 15A), Mt. Clemens, Macomb County (expires 11/30/2012); Site 17 (2.33 acres)—26980 Trolley Drive, Taylor, Wayne County; Site 18 (17 acres)—7111 Crabb Road, Temperance, Monroe County (expires 6/30/2013); Site 19 (2,300 acres)—Willow Run Airport, 801 Willow Run Airport, Ypsilanti, Washtenaw County; Site 20 (4 acres)—25200 Malvina Street, Warren, Macomb County; Site 21 (4 acres)—21100 Trolley Industrial Drive, Taylor, Wayne County; Site 22 (12 acres)—1200 E. McNichols Road, Highland Park, Wayne County; Site 23 (1.26 acres)—160 Visger Road, River Rouge, Wayne County (expires 11/30/2012); Site 24 (2.85 acres)—12850 E. Nine Mile Road, Warren, Macomb County (expires 11/30/2012); Site 25 (2.07 acres)—6100 Linsdale Street, Detroit, Wayne County (expires 11/30/2012); Site 26 (0.92 acres)—21146 Trolley Industrial Drive, Taylor, Wayne County (expires 11/30/2012); Site 29 (7.19 acres)—8650 Mt. Elliot, Detroit, Wayne County (expires 11/30/2012); Site 30 (4.69 acres)—2599 22nd Street, Detroit, Wayne County (expires 11/30/2012); Site 31 (16.31 acres)—26090 23 Mile Road, Chesterfield, Macomb County (expires 11/30/2012); Site 33 (2.63 acres)—36253 Michigan Avenue, Wayne, Wayne County (expires 11/30/2012); Site 34 (0.92 acres)—21140 Trolley Industrial Drive, Taylor, Wayne County (expires 11/30/2012); Site 35 (32.5 acres)—6837 Wyoming Street, Dearborn, Wayne County; Site 36 (38.9 acres)—9400 McGraw Street, Detroit, Wayne County; Site 37 (16.03 acres)—8249 Haggerty Rd, Canton, Wayne County (expires 10/31/2013); Site 38 (34.62 acres)—1515 Newburgh, Westland, Wayne County (expires 11/30/2012); Site 39 (2.96 acres)—7900 Haggerty Rd, Canton, Wayne County (expires 11/30/2012); Site 40 (2.9 acres)—1550 Superior Parkway, Westland, Wayne County (expires 11/30/2012); Site 41 (18.16 acres)—20495 Pennsylvania Road, Brownstown Township, Wayne County (expires 10/31/2013); Site 42 (1.83 acres)—50750 Russell Schmidt Boulevard, Chesterfield, Macomb County (expires 10/31/2013); Site 49 (5 acres)—9303 West Jefferson Avenue, Detroit, Wayne County (expires 11/30/2012); Site 50 (30 acres)—4105 West Jefferson Avenue, Detroit, Wayne County (expires 12/31/2012); and, Site 51 (7 acres)—13725 Pennsylvania Road, Riverview, Wayne County (expires 4/30/2013).

The grantee's proposed service area under the ASF would be Macomb, Monroe, Oakland, Washtenaw and Wayne Counties, Michigan, as described in the application. If approved, the grantee would be able to serve sites throughout the service area based on companies' needs for FTZ designation. The proposed service area is within and adjacent to the Detroit Customs and Border Protection port of entry.

The applicant is requesting authority to reorganize its existing zone project to include existing Sites 3, 5, 12, 14 and 19 as “magnet” sites and Sites 2, 4, 6, 8-11, 13, 15, 17, 18, 20-26, 29-42 and 49-51 as “usage-driven” sites. The applicant is also requesting that Site 15A be removed, that parcels from Site 5 be renumbered as Sites 43 and 44, that parcels from Site 11 be renumbered as Sites 45 and 46 and that parcels from Site 14 be renumbered as Sites 47 and 48. The renumbered parcels would be designated as usage-driven sites. The application would have no impact on FTZ 70's previously authorized subzones.

In accordance with the Board's regulations, Elizabeth Whiteman of the FTZ Staff is designated examiner to evaluate and analyze the facts and information presented in the application and case record and to report findings and recommendations to the Board.

Public comment is invited from interested parties. Submissions shall be addressed to the Board's Executive Secretary at the address below. The closing period for their receipt is August 27, 2012. Rebuttal comments in response to material submitted during the foregoing period may be submitted during the subsequent 15-day period to September 10, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via www.trade.gov/ftz. For further information, contact Elizabeth Whiteman at Elizabeth.Whiteman@trade.gov or (202) 482-0473.

Dated: June 20, 2012.
Elizabeth Whiteman,
Acting Executive Secretary.

[FR Doc. 2012-15570 Filed 6-25-12; 8:45 am]

BILLING CODE P